DEPARTMENT OF THE INTERIOR

National Park Service

60-Day Notice of Intention To Request Clearance of Collection of Information; Opportunity for Public Comment

AGENCY: National Park Service, Interior.

ACTION: Notice and request for comments.

SUMMARY: The National Park Service (NPS) plans to submit a request to OMB to renew approval of the collection of information in 36 CFR part 51, regarding the submission of offers in response to concession opportunities. NPS will be requesting a 3-year term of approval for this information collection activity.

DATES: Public comments on this Information Collection Request (ICR) will be accepted on or before October 5, 2009.

ADDRESSES: Send comments to: Ms. Jo A. Pendry, Chief, Commercial Services Program, National Park Service, 1201 Eye Street, NW., 11th Floor, Washington, DC 20005, or via e-email at jo_pendry@nps.gov, or via fax at 202/371-2090.

To Request a Draft of Proposed Collection of Information Contact: Ms. Jo A. Pendry, Chief, Commercial Services Program, National Park Service, 1201 Eye Street, NW., 11th Floor, Washington, DC 20005 or via fax at 202/371-2090. You are entitled to a copy of the entire ICR package free-of-charge.

SUPPLEMENTARY INFORMATION: An agency may not conduct or sponsor, and a person is not required to respond to, a collection of information unless it displays a currently valid Office of Management and Budget (OMB) control number.

OMB Control Number: 1024-0125.

Title: Submission of Offers in Response to Concession Opportunities.

Current Expiration Date: 01/31/2010.

Form(s): None.

Type of Request: Extension of a currently approved collection of information.

Abstract: The regulations at 36 CFR part 51 primarily implement Title IV of the National Parks Omnibus Management Act of 1998 (Pub. L. 105-391 or the Act), which provides legislative authority, policies and requirements for the solicitation, award and administration of National Park Service (NPS) concession contracts. The regulations require the submission of offers by parties interested in applying for a NPS concession contract.

Affected public: Businesses and nonprofit organizations.

Obligation to respond: Required to obtain or retain a benefit.

Frequency of response: On occasion.

Estimated total annual responses: 240.

Estimated average completion time per response: 320 hours.

Estimated annual reporting burden: 76,800 hours.

Estimated annual nonhour cost burden: $1,120,000.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that NPS will be able to do so. All responses to the notice will be summarized and included in the request for the Office of Management and Budget approval.

Dated: August 3, 2009.
Cartina Miller,
NPS Information Collection Clearance Officer.

[FR Doc. E9-18857 Filed 8-5-09; 8:45 am]

BILLING CODE P